DEPARTMENT OF HEALTH AND HUMAN SERVICES

Centers for Disease Control and Prevention

[60Day-10-0761]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Randomized Controlled Trial of Routine Screening for Intimate Partner Violence (OMB No. 0920-0761 Exp. 1/31/2011)—Revision—National Center for Injury Prevention and Control (NCIPC), Centers for Disease Control and Prevention (CDC).

Background and Brief Description

Intimate partner violence (IPV) is a prevalent problem with serious health consequences that include death, physical injury, increased rates of physical illness, posttraumatic stress, increased psychological distress, depression, substance abuse, and suicide. Some studies suggest that abuse perpetrated by intimate partners tends to be repetitive and escalates in severity over time. This research has been the basis for promoting early diagnosis and intervention.

Health care providers appear to be well situated to identify IPV. Women come into contact with health care services routinely for a number of reasons such as prenatal care, family planning, cancer screening, and well baby care. Women experiencing IPV make more visits to emergency departments, primary care facilities, and mental health agencies than non-abused women. Considering the magnitude and severity of IPV, and the potential role health care providers could play in reducing its serious consequences, numerous professional and health care organizations have recommended routine screening of women for IPV in primary care settings. However, various systematic reviews of the literature have not found evidence for the effectiveness of screening to improve outcomes for women exposed to IPV.

Based on the recommendations of an expert panel convened, CDC is proposing to conduct a randomized controlled trial to provide this evidence. The trial will recruit 2675 women in a network of women's health clinics. Women attending these clinics tend to be African American and of lower socioeconomic status. For this study, women will be randomly allocated to one of three arms: (1) Screened for IPV, and if disclosing IPV, provided information on available IPV services; (2) not screened and all receiving information on available IPV services; or (3) a control group that will not be screened nor receive information on available IPV services. All three arms will be assessed with a self-report measure for disability, quality of life, and utilization of health services at baseline utilizing an audio-computer-assisted structured interview (A-CASI) and at a 12-month follow-up utilizing a computerized-assisted telephone interview (CATI). The results from this Randomized Controlled Trial, will guide CDC as well as other governmental agencies, professional and health care organizations, and women's advocate groups in formulating its recommendations and policies regarding routine screening. A pretest with 196 women in a women's health clinic was conducted to test the enrollment, randomization, interview, and follow-up procedures; and provide estimates for outcome measures. Based on the results of the pretest, CDC has revised the measures, procedures, and sample size requirements for the Randomized Controlled Trial. There are no costs to respondents other than their time to participate in the survey.

Estimated Annualized Burden Hours
Type of respondents | Form name | Number of respondents | Number of responses per respondent | Average burden response (in hours) | Annual burden (in hours)
Women Seeking Health Care Services | Eligibility Script for Pretest | 70 | 1 | 1/60 | 2
| Baseline Questionnaire Pretest | 65 | 1 | 15/60 | 17
| Follow-up Questionnaire Pretest | 59 | 1 | 12/60 | 12
| Eligibility Script for Main Study | 668 | 1 | 1/60 | 12
| Baseline Questionnaire Main Study | 535 | 1 | 16/60 | 143
| Follow-up Questionnaire Main Study (estimated 30% lost to follow-up) | 356 | 1 | 21/60 | 125
Total |  |  |  |  | 311

Dated: December 11, 2009.
Marilyn S. Radke,
Reports Clearance Officer, Centers for Disease Control and Prevention.

[FR Doc. E9-30014 Filed 12-16-09; 8:45 am]

BILLING CODE 4163-18-P